DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 2, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
City and County of Broomfield, Colorado Docket No.: FEMA-B-1266
City and County of Broomfield | City Hall Engineering Department, 1 Descombes Drive, Broomfield, CO 80020.
Champaign County, Illinois, and Incorporated Areas Docket No.: FEMA-B-1267
City of Champaign | City Hall, 102 North Neil Street, Champaign, IL 61820.
City of Urbana | City Hall, 400 South Vine Street, Urbana, IL 61801.
Unincorporated Areas of Champaign County | Champaign County Administrative Building, 1776 East Washington Street, Urbana, IL 61802.
Village of Bondville | Village Hall, 102 South Walnut Street, Bondville, IL 61815.
Village of Broadlands | Village Hall, 107 Lincoln Street, Broadlands, IL 61816.
Village of Fisher | Village Office, 100 East School Street, Fisher, IL 61843.
Village of Ivesdale | Village Hall, 406 Third Street, Ivesdale, IL 61851.
Village of Mahomet | Administrative Offices, 503 East Main Street, Mahomet, IL 61853.
Village of Rantoul | Village Hall, 333 South Tanner Street, Rantoul, IL 61866.
Village of Royal | Village Hall, 101 West Main Street, Royal, IL 61871.
Village of Sadorus | Village Hall, 115 West Market Street, Sadorus, IL 61872.
Village of Sidney | Village Hall, 221 South David Street, Sidney, IL 61877.
Village of St. Joseph | Village Hall, 207 East Lincoln Street, St. Joseph, IL 61873.
Allen County, Indiana, and Incorporated Areas Docket No.: FEMA-B-1251
City of Woodburn | Department of Planning Services, 200 East Berry Street, Suite 150, Fort Wayne, IN 46802.
Town of Monroeville | Department of Planning Services, 200 East Berry Street, Suite 150, Fort Wayne, IN 46802.
Unincorporated Areas of Allen County | Department of Planning Services, 200 East Berry Street, Suite 150, Fort Wayne, IN 46802.
Tate County, Mississippi, and Incorporated Areas Docket No.: FEMA-B-1250
City of Senatobia | City Hall, 133 North Front Street, Senatobia, MS 38668.
Town of Coldwater | Coldwater Town Hall, 444 Court Street, Senatobia, MS 38618.
Unincorporated Areas of Tate County | Tate County Courthouse, 201 South Ward Street, Senatobia, MS 38668.

(Catalog of Federal Domestic Assistance No. 97.022, “Flood Insurance.”)

Roy E. Wright,
Deputy Associate Administrator for Mitigation, Department of Homeland Security, Federal Emergency Management Agency.

[FR Doc. 2013-12000 Filed 5-20-13; 8:45 am]

BILLING CODE 9110-12-P